DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 21, 2002.

Interested persons are invited to submit written comments regarding the subject matter of the investigations to the Director, Division of Trade Adjustment Assistance, at the address shown below, not later than June 21, 2002.

The petitions filed in this case are available for inspection at the Office of the Director, Division of Trade Adjustment Assistance, Employment and Training Administration, U.S. Department of Labor, Room C-5311, 200 Constitution Avenue, SW., Washington, DC 20210.

Signed at Washington, DC, this 1st day of April, 2002.
Edward A. Tomchick,
Director, Division of Trade Adjustment Assistance.

Appendix
[Petitions instituted on 04/01/2002]
TA-W | Subject Firm (Petitioners) | Location | Date of petition | Product(s)
41,196 | Textile Parts and Machine (Wkrs) | Gastonia, NC | 02/27/2002 | Machine Parts.
41,197 | 3M Corporation (Wkrs) | Argo, IL | 02/07/2002 | Pressure Sensitive Tape.
41,198 | Starlo Fashion (Wkrs) | North Bergon, NJ | 02/13/2002 | Women Clothing.
41,199 | Shelby Manufacturing (Wkrs) | Charleston, MS | 02/27/2002 | Work Gloves.
41,200 | Tapetex—Duro Industries (Co.) | Rochester, NY | 02/28/2002 | Textile Processing for Apparel.
41,201 | mansfield Plumbing (Wkrs) | Kilgore, TX | 02/14/2002 | Plumbing Fixtures.
41,202 | Vertflex Products (Comp) | Irwindale, CA | 02/20/2002 | Computer Furniture.
41,203 | Midwest International (Wkrs) | Stanberry, MO | 02/13/2002 | Flex Plates.
41,204 | Carmum International (Wkrs) | San Antonio, TX | 02/07/2002 | Machined Fittings & Cold Plates.
41,205 | Sonoco Products (Wkrs) | Massillon, OH | 02/14/2002 | Composite Cans.
41,206 | ICF Industries (Co.) | New York City, NY | 12/07/2001 | Imported Apparel.
41,207 | Generl Manufacturing (Comp) | Opp, AL | 02/22/2002 | Denim Jeans.
41,208 | Valeo Climate Control (Co.) | Grand Prairie, TX | 03/01/2002 | Automative Air Conditioning Parts.
41,209 | Federal Pipe and Steel (Wkrs) | Blytheville, AR | 01/16/2002 | Distribution Services.
41,210 | Burlington Chemical (Comp) | Burlington, NC | 03/19/2002 | Dyes & Specialty Chemicals for Textiles.
41,211A | Eagle Picher Technologies (Comp) | Seneca, MO | 03/08/2002 | Lead-Acid Batteries.
41,211 | Eagle Picher Technologies (Comp) | Grove, OK | 03/08/2002 | Lead-Acid Batteries.
41,212 | Ametek Specialty Motors (Co.) | Hudson, WI | 02/27/2002 | Fractional HP Electric Motors.
41,213 | VF Playwear, Inc. (Comp) | Greensboro, NC | 03/20/2002 | Corporate Office—Children's Platwear.
41,214 | Gem Dany (Wkrs) | Madison, NC | 02/22/2002 | Apparel Accessories.
41,215 | Birdair, Inc. (Comp) | Amherst, NY | 03/11/2002 | Fabric Panels for Roof Systems.
41,216 | Tama Manufacturing Corp. (UNITE) | Allentown, PA | 03/14/2002 | Ladies' Shirts and Sportswear.
41,217 | Scotty Fashions Cutting (UNITE) | Pen Argyl, PA | 03/14/2002 | Ladies Sportswear.
41,218 | Scotty Fashions (UNITE) | Little Gap, PA | 03/14/2002 | Ladies Sportswear.
41,219 | Spring Ford Industries (Wkrs) | Gastonia, NC | 03/21/2002 | Finish Knitted Cloth for Tee Shirts.
41,220 | Spring Ford Industries (Wkrs) | Chilhowie, VA | 03/11/2002 | T-Shirts & Knitted Apparel.
41,221A | Eagle-Picher Technologies Comp) | Senaca, MO | 03/08/2002 | Lead-Acid Batteries.
41,221 | Walls Industries (Wkrs) | Ft. Worth, TX | 03/11/2002 | Outerwear and Winter Garments.
41,222 | Bechtel Jacobs (PACE) | Piketon, OH | 03/14/2002 | Enriched Uranium Product.
41,223 | Mead WestVaco Corp. (PACE) | Chillicothe, OH | 03/08/2002 | High-End Coated Paper.
41,224 | Alox Corp. (Wkrs) | Niagara Falls, NY | 03/04/2002 | Oil and Gas Additives.
41,225 | Jideco of Bardstown (Co.) | Bardstown, KY | 03/14/2002 | Various Car Parts
41,226 | Emerson Tool (IBU) | Menominee, MI | 03/21/2002 | Vacuum Cleaners.
41,227 | Viracon Inc. (Wkrs) | Owatonna, MN | 03/04/2002 | Architectural Glass.
41,228 | Intertape Polymer Group (Wkrs) | Marysville, MI | 03/06/2002 | Tape—Pressure Sensitive.
41,229 | Precision Kidd Steel (Comp) | Aliquippa, PA | 04/01/2002 | Cold Finished Steel Bar and Wire.

[FR Doc. 02-14550 Filed 6-10-02; 8:45 am]

BILLING CODE 4510-30-M